DEPARTMENT OF ENERGY

[OE Docket No. PP-438]

Application for Presidential Permit; Central Maine Power Company

AGENCY: Office of Electricity Delivery and Energy Reliability, DOE.

ACTION: Notice of application.

SUMMARY: Central Maine Power Company (CMP) has applied for a Presidential permit to construct, operate, maintain, and connect an electric transmission line across the United States border with Canada.

DATES: Comments or motions to intervene must be submitted on or before October 27, 2017.

ADDRESSES: Comments or motions to intervene should be addressed as follows: Office of Electricity Delivery and Energy Reliability (OE-20), U.S. Department of Energy, 1000 Independence Avenue SW., Washington, DC 20585.

FOR FURTHER INFORMATION CONTACT: Christopher Lawrence (Program Office) at 202-586-5260 or via electronic mail at Christopher.Lawrence@hq.doe.gov; Rishi Garg (Program Attorney) at 202-586-0258.

SUPPLEMENTARY INFORMATION: The construction, operation, maintenance, and connection of facilities at the international border of the United States for the transmission of electric energy between the United States and a foreign country is prohibited in the absence of a Presidential permit issued pursuant to Executive Order (EO) 10485, as amended by EO 12038.

On July 27, 2017, Central Maine Power Company (CMP or “The Applicant”) filed an application with the Office of Electricity Delivery and Energy Reliability of the Department of Energy (DOE) for a Presidential permit for the New England Clean Energy Connect (NECEC) project. CMP has its principal place of business in Augusta, Maine. CMP Group, Inc. owns 100% of outstanding shares of CMP's common stock. CMP Group, Inc. is a wholly-owned subsidiary of Avangrid Networks, Inc., which in turn is a wholly-owned subsidiary of AVANGRID, a New York corporation listed on the New York Stock Exchange (NYSE: AGR). Iberdrola, a corporation (sociedad anónima) organized under the laws of the Kingdom of Spain (BME: IBE), directly owns approximately 81.5% of the outstanding shares of AVANGRID common stock, with the remaining shares publicly traded on the New York Stock exchange. Iberdrola's shares are listed in the Madrid, Bilbao, Barcelona, and Valencia (Spain) stock exchanges.

CMP proposes to construct, operate, maintain, and connect the NECEC project, which would cross the U.S.-Canada (Québec-Maine) international border in Beattie Township, Maine. From that point, the NECEC's transmission facilities would extend to the point of first interconnection with the ISO-New England operated power grid at CMP's Larrabee Road Substation in Lewiston, Maine. The proposed project includes (1) a 100-foot segment crossing the border; (2) approximately 145.3 miles of +/−320 kilovolt (kV) overhead high-voltage direct current (HVDC) transmission line from the border crossing to (3) a new 345 kV alternating current (AC) to +/−320 kV HVDC 1,200 megawatt (MW) converter station at the Merrill Road Substation in Lewiston, Maine (Merrill Road Converter Station), which would convert the electrical power from DC to AC; (4) a 1.2-mile, above-ground 345 kV AC transmission line from Merrill Road Converter Station to the existing Larrabee Road Substation (and associated rebuild of 0.8 mile of lower-voltage 34.5 kV transmission line to make room in the corridor for the new 1.2-mile line); and (5) a 345 kV line terminal at the Larrabee Road Substation. The proposed project facilities would be capable of transmitting up to 1200 MW of power.

Since the restructuring of the electric industry began, resulting in the introduction of different types of competitive entities into the marketplace, DOE has consistently expressed its policy that cross-border trade in electric energy should be subject to the same principles of comparable open access and non-discrimination that apply to transmission in interstate commerce. DOE has stated that policy in export authorizations granted to entities requesting authority to export electric energy over international transmission facilities. Specifically, DOE expects transmitting utilities owning border facilities to provide access across the border in accordance with the principles of comparable open access and non-discrimination contained in the Federal Power Act and articulated in Federal Energy Regulatory Commission (FERC) Order No. 888 (Promoting Wholesale Competition Through Open Access Non-Discriminatory Transmission Services by Public Utilities; FERC Stats. & Regs. ¶ 31,036 (1996)), as amended.

Procedural Matters: Any person may comment on this application by filing such comment at the address provided above. Any person seeking to become a party to this proceeding must file a motion to intervene at the address provided above in accordance with Rule 214 of FERC's Rules of Practice and Procedure (18 CFR 385.214). Two copies of each comment or motion to intervene should be filed with DOE on or before the date listed above.

Additional copies of such motions to intervene also should be filed directly with: Randall S. Rich, Pierce Atwood LLP, 1875 K Street NW., Suite 700, Washington, DC 20006, rrich@pierceatwood.com, AND Bernardo Escudero Morandeira, Central Maine Power Company, 83 Edison Drive, Augusta, Maine 04336, bernardo.escudero@cmpco.com, AND Jared S. des Rosiers, Pierce Atwood LLP, 254 Commercial Street, Portland, Maine 04101, jdesrosiers@pierceatwood.com.

Before a Presidential permit may be issued or amended, DOE must determine that the proposed action is in the public interest. In making that determination, DOE considers the environmental impacts of the proposed project pursuant to the National Environmental Policy Act of 1969, as amended, determines the project's impact on electric reliability by ascertaining whether the proposed project would adversely affect the operation of the U.S. electric power supply system under normal and contingency conditions, and any other factors that DOE may also consider relevant to the public interest. Also, DOE must obtain the concurrences of the Secretary of State and the Secretary of Defense before taking final action on a Presidential permit application.

Copies of this application will be made available, upon request, for public inspection and copying at the address provided above, by accessing the program Web site at http://energy.gov/oe/services/electricity-policy-coordination-and-implementation/international-electricity-regulatio-2.

Issued in Washington, DC, on September 21, 2017.
Christopher A. Lawrence,
Electricity Policy Analyst, National Electricity Delivery Division, Office of Electricity Delivery and Energy Reliability.

[FR Doc. 2017-20681 Filed 9-26-17; 8:45 am]

BILLING CODE 6450-01-P